DEPARTMENT OF JUSTICE

Antitrust Division

Notice Pursuant to the National Cooperative Research and Production Act of 1993—National Center for Manufacturing Sciences, Inc.

Notice is hereby given that, on July 19, 2000, pursuant to Section 6(a) of the National Cooperative Research and Production Act of 1993, 15 U.S.C. § 4301 et seq. (“the Act”), National Center For Manufacturing Sciences, Inc. has filed written notifications simultaneously with the Attorney General and the Federal Trade Commission disclosing changes in its membership status. The notifications were filed for the purpose of extending the Act's provisions limiting the recovery of antitrust plaintiffs to actual damages under specified circumstances. Specifically, The Cross Company (dba Cross Huller—North America), Sterling Heights, MI; MAPAL, Inc., Piscataway, NJ; Savi Technology, Inc., Sunnyvale, CA; SoftZone Engineering, Inc., Plymouth, MI; Triton Systems, Inc., Chelmsford, MA; Arizona State University, Tempe, AZ; The Federal Technology Center, North Highlands, CA; Michigan Manufacturing Technology Center, Ann Arbor, MI; and Sandia National Laboratories, Albuquerque, NM have been added as parties to this venture. Also, AccuData, Inc, Jackson, MI; Automated Precision , Inc., Gaithersburg, MD; CAMotion, Inc., Atlanta, GA; Cargill Detroit Corporation, Clawson, MI; Cognition Corporation, Bedford, MA; Crystallume, Inc., Santa Clara, CA; Electrosource, Inc., San Marcos, TX; Framework Technologies Corporation, Medina, OH; ICAMP, Inc., Bolton, CT; I.Q. Plus Corporation, Toronto, Ontario, CANADA; Lambda Technologies, Inc., Morrisville, NC; Liburdi Dimetrics Corporation, Dearborn, MI; Liburdi Engineering Limited, Dearborn, MI; Liburdi Pulsweld Corporation, Dearborn, MI; Lockheed Martin Corporation, Idaho Falls, ID; Manufacturing Control Associates, Inc., Palatine, IL; ORSCO, Inc., Shelby Township, MI; SP³, Mountain View, CA; Spatial Technology, Inc., Boulder, CO; Sprint Communications Corporation, Reston, VA; Timesavers, Inc., Minneapolis, MN; TRW Broadband Communication Network, Carson, CA; UES, Inc., Dayton, OH; WebEnable, Inc., Harvard, MA; Ecole Polytechnique, Montreal, Quebec, CANADA; IIT Research Institute, Chicago, IL; Independent Lubricant Manufacturers Association, Alexandria, VA; Michigan Biotechnology Institute, Lansing, MI; Robert C. Byrd Institute For Advanced Flexible Manufacturing Systems, Huntington, WV; Rensselaer Polytechnic Institute, Troy, NY; State Board of Technical Colleges, St. Paul, MN; University of Texas at Arlington, Fort Worth, TX; and University of Texas at Austin Manufacturing Systems Center, Austin, TX have been dropped as parties to this venture.

No other changes have been made in either the membership or planned activity of the group research project. Membership in this group research project remains open, and the National Center For Manufacturing Sciences, Inc. intends to file additional written notification disclosing all changes in membership.

On February 20, 1987, the National Center for Manufacturing Sciences, Inc. filed its original notification pursuant to Section 6(a) of the Act. The Department of Justice published a notice in the Federal Register pursuant to Section 6(b) of the Act on March 17, 1987 (52 FR 8375).

The last notification was filed with the Department on March 21, 2000. A notice was published in the Federal Register pursuant to Section 6(b) of the Act on August 9, 2000 (65 FR 48737).

Constance K. Robinson,
Director of Operations, Antitrust Division.

[FR Doc. 01-13033 Filed 5-22-01; 8:45 am]

BILLING CODE 4410-11-M